DEPARTMENT OF ENERGY

Federal Energy Regulatory Commission

Notice of Intent To File Application for a Small Conduit Exemption From Licensing

December 9, 2004.

Take notice that the following notice of intent has been filed with the Commission and is available for public inspection:

a. Type of Filing: Notice of intent to file an application for a small conduit exemption from licensing.

b. Project No: 1005-000.

c. Date Filed: August 30, 2004.

d. Submitted by: City of Boulder.

e. Name of Project: Boulder Canyon.

f. Location: The project is located on Boulder Creek, in Boulder County near the City of Boulder, Colorado. The project occupies about 36 acres of U.S. Forest Service lands within the Roosevelt National Forest.

g. Filed Pursuant to: Section 15 of the Federal Power Act, 18 CFR 16.6.

h. Effective Date of Current License: April 1, 1962.

i. Expiration Date of Current License: August 31, 2009.

j. Project Description: The project encompasses Barker Dam and Reservoir, the Barker Gravity Line, Kossler Dams and Reservoir (forebay), Kossler Pipeline and Boulder Creek Delivery Pipeline (penstock), and Boulder Canyon plant and associated switchgear. The powerhouse contains two impulse wheels connected to two generators with a total plant rating of 20 megawatts.

k. Pursuant to Section 16.19 of the Commission's regulations, the licensee is required to make available the information described in Section 16.7 of the regulations. Such information is available from the Director of Public Works for Utilities for City of Boulder at 1739 Broadway, Boulder, CO, 80306-0471, 303-441-3266.

l. FERC Contact: James Hunter, 202-502-6086.

m. The licensee states its unequivocal intent to submit an application for a small conduit exemption from licensing for Project No. 1005. Pursuant to 18 CFR 16.9(b)(1) each application for a new license and any competing license applications must be filed with the Commission at least 24 months prior to the expiration of the existing license. All applications for license for this project must be filed by August 31, 2007.

Existing licensees intending to file exemption applications are subject to the same provisions applicable to applicants for new license regarding notices of intent, access, consultation, application filing deadlines, providing of information, and Commission processing of the applications. See 18 CFR 16.12(d) and 16.22(d). No decision on a conduit exemption will be made prior to the opportunity for filing, and consideration of, any competing license application.

n. A copy of this filing is available for review at the Commission in the Public Reference Room or may be viewed on the Commission's Web site at http://www.ferc.gov using the “eLibrary” link. Enter the docket number to access the document excluding the last three digits in the docket number field to access the document. For assistance, contact FERC Online Support at FERCOnlineSupport@ferc.gov or toll-free at 1-866-208-3676, or TTY 202-502-8659. A copy is also available for inspection and reproduction at the address in item h above.

o. Register online at http://www.ferc.gov/docs-filing/esubscription.asp to be notified via e-mail of new filings and issuances related to this or other pending projects. For assistance, contact FERC Online Support as shown in the paragraph above.

Magalie R. Salas,
Secretary.

[FR Doc. E4-3652 Filed 12-14-04; 8:45 am]

BILLING CODE 6717-01-P